DEPARTMENT OF HEALTH AND HUMAN SERVICES

Administration for Children and Families

Proposed Information Collection Activity; Comment Request

Proposed Projects

Title: Strengthening Communities Fund Program Evaluation.

OMB No.: New Collection.

Description: This proposed information collection activity is to obtain evaluation information from Strengthening Communities Fund (SCF) grantees. Grantees include participants in two SCF grant programs contributing to the economic recovery as authorized in the American Recovery and Reinvestment Act of 2009 (ARRA). The SCF evaluation is an important opportunity to examine the outcomes achieved by the Strengthening Communities Fund in meeting its objective of improving the capacity of grantees that include Nonprofit organizations and State, Local and Tribal Governments. The evaluation for each program will be designed to assess progress and measure increased organizational capacity of grantees in each of the two SCF programs. The purpose of this request will be to establish the approved baseline instruments for follow-up data collection.

Respondents: SCF Grantees (both the Nonprofit Capacity Building Program and the Government Capacity Building Program) made up of State, local, and Tribal governments, as well as nonprofit organizations.

Annual Burden Estimates
Instrument | Number of respondents | Number of responses per respondent | Average burden hours per response | Total burden hours
Nonprofit Capacity Building Program Performance Progress Report (PPR) | 35 | 4 | 1 | 140
Government Capacity Building Program PPR | 49 | 4 | 1 | 196

Estimated Total Annual Burden Hours: 336.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: March 24, 2010.
Robert Sargis,
Reports Clearance Officer.

[FR Doc. 2010-6866 Filed 3-26-10; 8:45 am]

BILLING CODE 4184-01-P